SECURITIES AND EXCHANGE COMMISSION

[Securities Exchange Act of 1934, Release No. 45668; File No. S7-06-02]

Notice of Intent to Prepare Environmental Assessment

March 28, 2002.

The U.S. Securities and Exchange Commission (Commission) intends to prepare an environmental assessment of its planned lease of approximately 650,000 square feet of office space at the Station Place facility at 100 F Street, NE., Washington, DC, currently being developed by Louis Dreyfus Properties, LLC. This space will consolidate and replace the Commission's current office space located in its existing headquarters building at 450 5th Street, NW., and in an overflow facility at 901 E Street, NW., in Washington, DC. The Commission plans to lease this replacement space in Station Place because its lease is expiring at its current headquarters at 450 5th Street, and because its space requirements exceed its current capacity at both 450 5th Street and 901 E Street. The environmental assessment will be prepared in accordance with Section 102(2) of the National Environmental Policy Act (NEPA) of 1969, as amended, the Council on Environmental Quality implementing regulations (40 CFR parts 1500-1508), and Section 106 of the National Historic Preservation Act of 1966, as amended. The environmental assessment shall also determine whether the Commission's decision to lease office space in Station Place will significantly affect the quality of the human environment, and hence require an environmental impact statement (EIS), or a finding of no significant impact (FONSI) under NEPA.

Interested individuals and groups and other members of the public are invited to identify environmental concerns that should be addressed during preparation of the environmental assessment. Interested Federal, regional and local agencies have also been solicited for comment. Public comments received on the potential impacts of the proposed action will be considered for the environmental assessment. To be most helpful, comments would clearly describe specific issues or topics that the community believes the environmental assessment should address. All written comments regarding the proposed project must be postmarked no later than April 17, 2002 and should be submitted in triplicate to Jonathan G. Katz, Secretary, U.S. Securities and Exchange Commission, 450 Fifth Street, NW., Washington, DC 20549-0609. All comment letters should refer to File Number S7-06-02. Comment letters will be available for inspection and copying in the Public Reference Room at 450 Fifth Street, NW., Washington, DC.

Margaret H. McFarland,
Deputy Secretary.

[FR Doc. 02-8043 Filed 4-2-02; 8:45 am]

BILLING CODE 8010-01-P